DEPARTMENT OF HEALTH AND HUMAN SERVICES

Indian Health Service

List of Recipients of Indian Health Scholarships Under the Indian Health Scholarship Program

The regulations governing Indian Health Care Improvement Act Programs (Pub. L. 94-437) provide at 42 CFR 136.334 that the Indian Health Service shall publish annually in the Federal Register a list of recipients of Indian Health Scholarships, including the name of each recipient, school and Tribal affiliation, if applicable. These scholarships were awarded under the authority of Sections 103 and 104 of the Indian Health Care Improvement Act, 25 U.S.C. 1613-1613a, as amended by the Indian Health Care Amendments of 1988, Public Law 100-713.

The following is a list of Indian Health Scholarship Recipients funded under sections 103 and 104 for Fiscal Year 2004:

Abeita, Steven John, University of New Mexico, Pueblo of Isleta, New Mexico

Adams-Moses, Cynthia Regina, Langston University, Muscogee (Creek) Nation, Oklahoma

Adams, Melissa Lynn, Dr. William M. Scholl College of Podiatric Medicine, Cherokee Nation, Oklahoma

Albers, Travis Alan, University of Maryland, Turtle Mountain Band of Chippewa Indians of North Dakota

Alcorn, Winter Dawn, Rogers State College, Cherokee Nation, Oklahoma

Alden-Diaz, Lorrie Elison, Rocky Mountain College, Crow Tribe of Montana

Allery, Cynthia Ann, University of Mary, Turtle Mountain Band of Chippewa Indians of North Dakota

Allery, Rhea Neachet, University of North Dakota, Turtle Mountain Band of Chippewa Indians of North Dakota

Allick, Shannon Lynn, Minot State University, Turtle Mountain Band of Chippewa Indians of North Dakota

Allison, Amanda, University of New Mexico, Navajo Nation, Arizona, New Mexico & Utah

Antonio, Amber, University of New Mexico, Pueblo of Acoma, New Mexico

Antuna, Crystal Lynn, Bacone College, Apache Tribe of Oklahoma

Arnold, Carly Ellen, Northern Arizona University, Navajo Nation, Arizona, New Mexico & Utah

Ashley, Natalie Lynn, Arizona State University, Navajo Nation, Arizona, New Mexico & Utah

Atene, Kathleen Cheryl, Northern Arizona University, Navajo Nation, Arizona, New Mexico & Utah

Azure, Alissa Joy, University of North Dakota, Turtle Mountain Band of Chippewa Indians of North Dakota

Bain, Edlin David, University of New Mexico, Navajo Nation, Arizona, New Mexico & Utah

Baker, Jennifer Lee, Oklahoma State University, Cherokee Nation, Oklahoma

Baker, Valerie, University of New Mexico, Navajo Nation, Arizona, New Mexico & Utah

Baker-Dotson, Elizabeth Diane, Northeastern State University, Cherokee Nation, Oklahoma

Barnes-Enloe, Rebecca Anne, Northeastern State University, Cherokee Nation, Oklahoma

Barnett, Stephanie Deann, University of Tulsa, Cherokee Nation, Oklahoma

Barse, Frances Erin, Lake Area Technical Institute, Shoshone-Paiute Tribes of the Duck Valley Reservation, Nevada

Battese, Kelly Joseph, University of Kansas, Miami Tribe of Oklahoma

Beals, Bryan-James, University of North Dakota, Muscogee (Creek) Nation, Oklahoma

Becenti, Elton, New Mexico State University, Navajo Nation, Arizona, New Mexico & Utah

Begay, Grace Delcinia, University of New Mexico, Navajo Nation, Arizona, New Mexico & Utah

Begay, Leilana Camille, Northern Arizona University, Navajo Nation, Arizona, New Mexico & Utah

Begay, Mirielle Rose, University of New Mexico, Navajo Nation, Arizona, New Mexico & Utah

Begay, Tashina Nanabah Litanya, University of Portland, Navajo Nation, Arizona, New Mexico & Utah

Begay, Velma Mae, University of New Mexico, Navajo Nation, Arizona, New Mexico & Utah

Bell, Sarah, University of North Dakota, Three Affiliated Tribes of the Fort Berthold Reservation

Ben, Lynndella, Arizona State University, Navajo Nation, Arizona, New Mexico & Utah

Bendure, Rodney D., Northeastern State University, Cherokee Nation, Oklahoma

Berryman, Mykala Sara, University of Oklahoma, Choctaw Nation of Oklahoma

Bigback, Jennifer Lee, Ohio State University, Northern Cheyenne Tribe of the Northern Cheyenne Indian Reservation, Montana

Bighorse, Amanda Nicole, Northeastern State University, Cherokee Nation, Oklahoma

Bingham, Zachary Scott, University of New Mexico, Cherokee Nation, Oklahoma

Black, Deborah Helen Pierce, Johns Hopkins University, Sisseton-Wahpeton Oyate of the Lake Traverse Reservation, South Dakota

Blevins, Regina Kay, North Dakota State University, Choctaw Nation of Oklahoma

Blindman, Charlene Sue, Arizona State University, Navajo Nation, Arizona, New Mexico & Utah

Blue Arm, Noelle E., University of North Dakota, Cheyenne River Sioux Tribe of the Cheyenne River Reservation, South Dakota

Blue, Sheanoa Lynn, University of Mary, Turtle Mountain Band of Chippewa Indians of North Dakota

Boatwright, Melinda Lea, University of Oklahoma, Choctaw Nation of Oklahoma

Bowekaty, Althea, University of New Mexico, Zuni Tribe of the Zuni Reservation, New Mexico

Bowles, Charles Justin, Oklahoma State University, Citizen Potawatomi Nation, Oklahoma

Boyd, Cassandra Iva, University of New Mexico, Navajo Nation, Arizona, New Mexico & Utah

Bradfield, Lavone Glema, University of North Dakota, Standing Rock Sioux Tribe of North & South Dakota

Brady, Meagan Leigh, University of Oklahoma, Comanche Nation, Oklahoma

Branham-Williams, Jamie Kathleen, University of Iowa, Cherokee Nation, Oklahoma

Bressman, Rebecca Rae, Portland Community College, Citizen Potawatomi Nation, Oklahoma

Brewster, Sarah Kate, Oklahoma State University, Muscogee (Creek) Nation, Oklahoma

Briggs, Misty Elaine, University of Oklahoma, Cherokee Nation, Oklahoma

Brockelman, Cassandra May, Southwestern Oklahoma State University, Seminole Nation of Oklahoma

Brooks, Lisa Michelle, University of Mary, Oglala Sioux Tribe of the Pine Ridge Reservation, South Dakota

Brown, Amanda Susan, Montana State University, Assiniboine and Sioux Tribes of the Fort Peck Indian Reservation, Montana

Brown, Christina Ann, University of North Dakota, Paiute-Shoshone Indians of the Bishop Community of the Bishop Colony, California

Brown, Tamara Danielle, University of Washington, Walker River Paiute Tribe of the Walker River Reservation, Nevada

Bryant, Joseph Preston, Southwestern Oklahoma State University, Cherokee Nation, Oklahoma

Burbank, Lenora Michele, Northern Arizona University, Navajo Nation, Arizona, New Mexico & Utah

Burr-Selle, Kandi Kay, University of North Dakota, Three Affiliated Tribes of the Fort Berthold Reservation, North Dakota

Bushyhead, Ian Dow, Oklahoma State University, Cherokee Nation, Oklahoma

Byrd, Alpheus Lee, Carl Albert State College, Cherokee Nation, Oklahoma

Cain, Melanie Joy, Oklahoma State University, Pueblo of Santa Clara, New Mexico

Calvin, Shawn Allen, University of Oklahoma, Choctaw Nation of Oklahoma

Carlile, Amanda Lynn, University of Missouri-Columbia, Cherokee Nation, Oklahoma

Carter, Nani Danielle, University of Oklahoma, Cherokee Nation, Oklahoma

Carver, Sharon Kay, Rogers State College, Cherokee Nation, Oklahoma

Cassutt, Robyn Amanda, Dakota Wesleyan College, Central Council of the Tlingit & Haida Indian Tribes

Cavanaugh, Casey Lynne, Idaho State University, Shoshone-Paiute Tribes of the Duck Valley Reservation, Nevada

Chapman, Ashley Elizabeth, Nova Southeastern University, Mohegan Indian Tribe of Connecticut

Charles, Vanessa Rae, Fort Lewis College, Navajo Nation, Arizona, New Mexico & Utah

Chastain, Brian Gene, University of Oklahoma, Muscogee (Creek) Nation, Oklahoma

Childress, Michelle Josett, University of Arkansas, Seminole Nation of Oklahoma

Clark, Ernestine, University of New Mexico, Navajo Nation, Arizona, New Mexico & Utah

Clark, Jacqueline Renee, East Central University, Chickasaw Nation, Oklahoma

Clark, Kari Rose, Arizona State University, Navajo Nation, Arizona, New Mexico & Utah

Clarke, Alberta D., University of Phoenix, Navajo Nation, Arizona, New Mexico & Utah

Clauschee, Susan Francine, University of Arizona, Navajo Nation, Arizona, New Mexico & Utah

Clay, Rhonda Ann, Northland Pioneer College, White Mountain Apache Tribe of the Fort Apache Reservation, Arizona

Clement, Brenda Lea, University of Wyoming, Cheyenne River Sioux Tribe of the Cheyenne River Reservation, South Dakota

Clemons, Danielle Nicole, Northern Arizona University, Pueblo of Acoma, New Mexico

Cliff, Leslie Ann, Montana State University, Fort Belknap Indian Community of the Fort Belknap Reservation of Montana

Coffman, Cara Lindsay, Oklahoma State University, Choctaw Nation of Oklahoma

Cook, Elizabeth Jane, East Central University, Choctaw Nation of Oklahoma

Cook, Lyle C, University of California, Cheyenne River Sioux Tribe of the Cheyenne River Reservation, South Dakota

Cook-Dickerson, Audrea Michelle, East Central Oklahoma State University, Chickasaw Nation, Oklahoma

Corbin, Christopher Neal, University of Oklahoma, Cherokee Nation, Oklahoma

Corcoran, Lauren Rae, University of Montana, Chippewa-Cree Indians of the Rocky Boy's Reservation, Montana

Couch, Ashley Ariel, Northeastern State University, Cherokee Nation, Oklahoma

Coulter, Daniel Lee, Creighton University, Citizen Potawatomi Nation, Oklahoma

Cox, Elena Heath, University of Wisconsin, Stockbridge Munsee Community, Wisconsin

Craig, Tonya, University of New Mexico, Navajo Nation, Arizona, New Mexico & Utah

Cremer, Paul Clay, Harvard University, Choctaw Nation of Oklahoma

Croley, Amanda Jo, University of Oklahoma, Cherokee Nation, Oklahoma

Cullen Carroll, Shanna Marie, Alliant International University, Osage Tribe, Oklahoma

Curley, Marsha Jean, Dixie State College, Navajo Nation, Arizona, New Mexico & Utah

Curry, Sarah Marie, Thomas Jefferson University, Eklutna Native Village

Damon, Dezbaa Altaalkii, Arizona School of Dentistry, Navajo Nation, Arizona, New Mexico & Utah

Davenport, Mary Charlene, University of Oklahoma, Navajo Nation, Arizona, New Mexico & Utah

Davis, Alona, University of North Dakota, Turtle Mountain Band of Chippewa Indians of North Dakota

Davis, Brandy Darlene, Western Carolina University, Eastern Band of Cherokee Indians of North Carolina

Davis, Heather Rae, University of North Dakota, Turtle Mountain Band of Chippewa Indians of North Dakota

Davis, Jason Russell, Oregon State University, Chickasaw Nation, Oklahoma

Davis, Kristina Faye, University of North Dakota, Turtle Mountain Band of Chippewa Indians of North Dakota

Day, Autumn Ann, Cornell University, Minnesota Chippewa Tribe, Minnesota

Decker—Walks over Ice, Amber Victoria, Rocky Mountain College, Confederated Salish & Kootenai Tribes of the Flathead Reservation, Montana

Dedam, Jean-Paul Henri, Dartmouth Medical School, Aroostook Band of Micmac Indians of Maine

Delgado, Jamael Theresa, University of North Dakota, Navajo Nation, Arizona, New Mexico & Utah

Desautel, Alice Junee Lu, Wenatchee Valley College, Confederated Tribes of the Colville Reservation, Washington

Dixon, Christian Brooke, University of Oklahoma, Cherokee Nation, Oklahoma

Dominguez, Shonna Larae, Rocky Mountain College, Crow Tribe of Montana

Duff, Christopher Michael, Southwestern Oklahoma State University, Cherokee Nation, Oklahoma

Dugan, Carysa Malaret, Arizona School of Health Sciences, Nez Perce Tribe of Idaho

Dunning, Kristen Nicole, Northeastern State University, Muscogee (Creek) Nation, Oklahoma

Earley, Mary Margaret, University of Tulsa, Cherokee Nation, Oklahoma

Edwards, Ralph Casey, University of Oklahoma, Cherokee Nation, Oklahoma

Ekamrak, Joyce Anna, University of Alaska-Anchorage, Akiachak Native Community

Elmore, Amber Dawn, Northeastern State University, Chickasaw Nation, Oklahoma

Emerson, Karen, University of New Mexico, Navajo Nation, Arizona, New Mexico & Utah

Erickson, Janet Leigh, Montana State University, Three Affiliated Tribes of the Fort Berthold Reservation, North Dakota

Eschbacher, Sylvia Antoinette, University of Alaska-Anchorage, Native Village of Point Hope

Etsitty, Marlene J., University of New Mexico, Navajo Nation, Arizona, New Mexico & Utah

Evans, Amanda Lorna, Montana State University, Confederated Salish & Kootenai Tribes of the Flathead Reservation, Montana

Eversole, Maryn, University of New Mexico, Navajo Nation, Arizona, New Mexico & Utah

Fairbanks, Mary Elizabeth, University of Minnesota, Minnesota Chippewa Tribe, Minnesota

Faulkenberry, Sommer LeeAnn, East Central University, Choctaw Nation of Oklahoma

Ferris-Lane, Dana Faye, College of the Redwoods, Hoopa Valley Tribe, California

Fisher, Joe Keith, University of New Mexico, Choctaw Nation of Oklahoma

Fishinghawk, Bobbi Genevieve, University of Kansas, Cherokee Nation, Oklahoma

Flint, Charles Michael, University of Oklahoma, Cherokee Nation, Oklahoma

Foote, Brittnee Irene, Bismarck State College, Turtle Mountain Band of Chippewa Indians of North Dakota

Foster, Melvin Dale, University of New Mexico, Navajo Nation, Arizona, New Mexico & Utah

Franklin, Richard Arnold, University of Missouri, Cherokee Nation, Oklahoma

Frizzell, Felicia Yelena, Johns Hopkins University, Mescalero Apache Tribe of the Mescalero Reservation, New Mexico

Garrison, Kristen Bijiibaa, University of Arizona, Navajo Nation, Arizona, New Mexico & Utah

Gerry, Jon Michael, Harvard Medical School, Cheyenne River Sioux Tribe of the Cheyenne River Reservation, South Dakota

Giles, Erin Ayn, Southern College of Optometry, Cherokee Nation, Oklahoma

Gillies, Kenneth Jay, North Dakota State University, Three Affiliated Tribes of the Fort Berthold Reservation, North Dakota

Gishie, Elvintina Evonne, Northern Arizona University, Navajo Nation, Arizona, New Mexico & Utah

Glasses, Devin Garrick, Arizona School of Health Sciences, Navajo Nation, Arizona, New Mexico & Utah

Gobert, Rachel Rose, Salish Kootenai College, Blackfeet Tribe of the Blackfeet Indian Reservation of Montana

Gonzales, Nicolle Lenn, University of New Mexico, Navajo Nation, Arizona, New Mexico & Utah

Gorman, Emmeline Paula, Northern Arizona University, Navajo Nation, Arizona, New Mexico & Utah

Gourneau, Erica Renee, University of North Dakota, Turtle Mountain Band of Chippewa Indians of North Dakota

Grey, Michael, University of New Mexico, Navajo Nation, Arizona, New Mexico & Utah

Groten, Eric Dartanium, University of New Mexico, Navajo Nation, Arizona, New Mexico & Utah

Guin, Heather Elaine, University of Tulsa, Muscogee (Creek) Nation, Oklahoma

Gump, Trina Maxine, University of Alaska-Anchorage, Native Village of Hooper Bay

Hall, Megan Sue, University of Oklahoma, Choctaw Nation of Oklahoma

Hall, Sheila Marie, Loyola College, Minnesota Chippewa Tribe, Minnesota

Hamby, Kenneth Jerome, Kirksville College of Osteopathic Medicine, Cherokee Nation, Oklahoma

Harker, Erica Michelle, University of New Mexico, Zuni Tribe of the Zuni Reservation, New Mexico

Harlan, Erica Sue, Oklahoma State University, Muscogee (Creek) Nation, Oklahoma

Harris, Elizabeth Kate, Oklahoma State University, Cherokee Nation, Oklahoma

Harrison, Geniel, University of North Dakota, Assiniboine and Sioux Tribes of the Fort Peck Indian Reservation, Montana

Hayes-Coons, Jennifer Lynn, Harbor Jones School of Nursing, Cherokee Nation, Oklahoma

Headdress, Gale Crystal, Montana State University, Assiniboine and Sioux Tribes of the Fort Peck Indian Reservation, Montana

Henderson, Traci Nicole, University of Great Falls, Chippewa-Cree Indians of the Rocky Boy's Reservation, Montana

Hicks, Tana Lee, Oklahoma Baptist University, Seminole Nation of Oklahoma

Holman, Colin Justin, University of Oklahoma, Chickasaw Nation, Oklahoma

Houle, Jay Powell, Montana State University, Sisseton-Wahpeton Oyate of the Lake Traverse Reservation, South Dakota

Howell, Jesse Ray, University of Central Oklahoma, Choctaw Nation of Oklahoma

Huerth, Benjamin Walter, University of Vermont, Winnebago Tribe of Nebraska

Hulsey, Heidi Lynne, Pacific University, Lummi Tribe of the Lummi Reservation, Washington

Humphreys, Christina Lilly, University of New Mexico, Navajo Nation, Arizona, New Mexico & Utah

Hyatt, Jacqueline Brooke, University of Oklahoma, Muscogee (Creek) Nation, Oklahoma

Jackson, Candy Lou, Idaho State University, Bad River Band of the Lake Superior Tribe of Chippewa Indians of the Bad River Reservation, Wisconsin

Jackson, Gillian Joseph, California State University, Pinoleville Rancheria of Pomo Indians of California

James, Carissa Grayce, Grand Canyon University, Navajo Nation, Arizona, New Mexico & Utah

James, Wendi Lee Ann, Southwestern Oklahoma State University, Choctaw Nation of Oklahoma

Jemewouk-Pickett, Jeanne M., University of Alaska, Nome Eskimo Community

Jim, Lawanda T., University of New Mexico, Navajo Nation, Arizona, New Mexico & Utah

Joe, John, University of New Mexico, Navajo Nation, Arizona, New Mexico & Utah

Johnson, Beverly Mae, Gateway Community College, Emmonak Village

Johnson, Brandon James, University of Minnesota, Minnesota Chippewa Tribe, Minnesota

Jollie-Trottier, Tami Sue, University of North Dakota, Turtle Mountain Band of Chippewa Indians of North Dakota

Jones, Jodi Michele, University of Oklahoma, Pawnee Nation of Oklahoma

Joseph, Ruth, Arizona State University, Navajo Nation, Arizona, New Mexico & Utah

Jumbo, Ronald Dean, Northern Arizona University, Navajo Nation, Arizona, New Mexico & Utah

Juneau, Rose Ann, University of Great Falls, Fort Belknap Indian Community of the Fort Belknap Reservation of Montana

Karlin, Emilie Owens, Seattle Pacific University, Cherokee Nation, Oklahoma

Keawphalouk, Michelle Dow, University of North Dakota, Muscogee (Creek) Nation, Oklahoma

Keel, Andrea Lynn, University of Oklahoma, Chickasaw Nation, Oklahoma

Keener, Brandy Michelle, Oklahoma State University, Cherokee Nation, Oklahoma

Keepseagle, Richard Joseph, University of Mary, Standing Rock Sioux Tribe of North & South Dakota

Kelliher, Allison Miranda, University of Washington, Nome Eskimo Community

Keplin, Angela Ann, University of North Dakota, Turtle Mountain Band of Chippewa Indians of North Dakota

King, Robert Ryan, University of Oklahoma, Choctaw Nation of Oklahoma

King, Taleah Rae, Langston University, Choctaw Nation of Oklahoma

Kirk, Brant Evan, Oregon Institute of Technology, Klamath Indian Tribe of Oregon

Knox, Stephen Foster, Oklahoma State University, Cherokee Nation, Oklahoma

Kramer, Erin Lea, University of Oklahoma, Cherokee Nation, Oklahoma

Landers, Joseph Henry, University of Oklahoma, Muscogee (Creek) Nation, Oklahoma

Larocque, Angie Lynn, University of North Dakota, Turtle Mountain Band of Chippewa Indians of North Dakota

Larson, Shelley Lynn, University of Alaska-Anchorage, Central Council of the Tlingit & Haida Indian Tribes

Lashley, Nathan James, Dr. William M. Scholl College of Podiatric Medicine, Cherokee Nation, Oklahoma

Laurence, Kami Lynn, University of New Mexico, Navajo Nation, Arizona, New Mexico & Utah

Lay, Pamela Christine, University of Phoenix, Muscogee (Creek) Nation, Oklahoma

Leader Charge, Lila Rose, South Dakota State University, Rosebud Sioux Tribe of the Rosebud Indian Reservation, South Dakota

Lee, Calbert Aaron, University of New Mexico, Navajo Nation, Arizona, New Mexico & Utah

Lee, Collette Caroline, Heritage College, Confederated Tribes of the Colville Reservation, Washington

Leemhuis, Stephanie Brook, University of Oklahoma, Cherokee Nation, Oklahoma

Leisholmn, Jody Janiece, University of Washington, Metlakatla Indian Community, Annette Island Reserve

Lemas, Dominick Joseph, University of Vermont, Citizen Potawatomi Nation, Oklahoma

Lessert, Amanda Kaye, Creighton University, Oglala Sioux Tribe of the Pine Ridge Reservation, South Dakota

Lewelling, Brian Lynn, Tulane University, Cherokee Nation, Oklahoma

Litfin-Salt, Miriam Fae, Kansas State University, Navajo Nation, Arizona, New Mexico & Utah

Livers, Leanne Danielle, Northeastern State University, Cherokee Nation, Oklahoma

Long, Christina Marie, University of South Dakota, Lower Brule Sioux Tribe of the Lower Brule Reservation, South Dakota

Longhurst, Claire Frances, University of North Dakota, Navajo Nation, Arizona, New Mexico & Utah

Longie, Michelle Renee, University of North Dakota, Turtle Mountain Band of Chippewa Indians of North Dakota

Looney, Joshua Carson, University of Oklahoma, Cherokee Nation, Oklahoma

Lopez, Candace Erin, University of New Mexico, Navajo Nation, Arizona, New Mexico & Utah

Lopez, Matthew Adam, Arizona State University, Walker River Paiute Tribe of the Walker River Reservation, Nevada

Luedecke, James Anthony, University of Arkansas, Cherokee Nation, Oklahoma

Lujan, Erica Leanne, University of New Mexico, Pueblo of Isleta, New Mexico

Lyons, Keri Diane, Bacone College, Cherokee Nation, Oklahoma

Madden, Donna Rose, Florida Hospital College of Health Sciences, Choctaw Nation of Oklahoma

Maloney, Violet Spring, Northern Arizona University, Navajo Nation, Arizona, New Mexico & Utah

Mannila, Anthony Lee, College of St. Scholastica, Bad River Band of the Lake Superior Tribe of Chippewa Indians of the Bad River Reservation, Wisconsin

Manning, Tessa Leigh, University of Texas Southwestern Medical School, Chickasaw Nation, Oklahoma

Marshall, Kristian Evan, Northeastern State University, Cherokee Nation, Oklahoma

Martinez, Kimberly Ann, Northeastern Oklahoma A&M College, Eastern Shawnee Tribe of Oklahoma

Mason, Laquita Joy, University of Montana, Three Affiliated Tribes of the Fort Berthold Reservation, North Dakota

Mayes, Nicole Rachel, University of Oklahoma, Cherokee Nation, Oklahoma

McCabe, Endreya Marie, Arizona State University, Delaware Nation, Oklahoma

McCorkle, Cody W., University of Arkansas, Citizen Potawatomi Nation, Oklahoma

McGeshick, Cole David, Montana State University, Sokaogon Chippewa Community, Wisconsin

McGhee, Julie Lynette, University of Oklahoma, Poarch Band of Creek Indians of Alabama

McKerry, Jason Amel, University of Arizona, Navajo Nation, Arizona, New Mexico & Utah

Mclemore, Dustin James, University of Oklahoma, Caddo Nation of Oklahoma

McNeal, Rebecca Lynne, University of Oklahoma, Choctaw Nation of Oklahoma

Meeks, Alicia Ann, East Central University, Chickasaw Nation, Oklahoma

Melkus, Edwina Mae, University of North Dakota, Crow Tribe of Montana

Mellon, Travis James, University of the Health Sciences, Pueblo of Zia, New Mexico

Miller, Carl Eugene, Dr. William M. Scholl College of Podiatric Medicine, Muscogee (Creek) Nation, Oklahoma

Miller, Jacklyn Jean, University of North Dakota, Oglala Sioux Tribe of the Pine Ridge Reservation, South Dakota

Miller, Michella Lynn, Connors State College, Cherokee Nation, Oklahoma

Miller, Priscilla Jean, University of Alaska, Agdaagux Tribe of King Cove

Monette, Eugene Louis, University of North Dakota, Turtle Mountain Band of Chippewa Indians of North Dakota

Moore, Anna Roser, University of Alaska, Native Village of Elim

Moran, Bradley Alan, University of Montana, Turtle Mountain Band of Chippewa Indians of North Dakota

Morgan, Heidi Elizabeth, Arizona School of Health Sciences, Muscogee (Creek) Nation, Oklahoma

Morin, Georgia Maria, University of North Dakota, Turtle Mountain Band Chippewa Indians of North Dakota

Morris, Gerald Wayne, Indiana University, Pokagon Band of Potawatomi Indians, Michigan and Indiana

Morrison, Clint Justin, University of Oklahoma, Choctaw Nation of Oklahoma

Moses, Gerald Henry, Harvard University, Alaska Native

Murphy, Brandy Fay, University of Nevada, Houlton Band of Maliseet Indians of Maine

Murray, Carl Arthur, University of Oklahoma, Choctaw Nation of Oklahoma

Murray, Sara Emily, University of Oklahoma, Choctaw Nation of Oklahoma

Nanez, Jennifer Sims, New Mexico Highland University, Pueblo of Acoma, New Mexico

Natewa, Christy Renee, University of New Mexico, Zuni Tribe of the Zuni Reservation, New Mexico

Nelson, Celeste Irene, Dartmouth Medical School, Ely Shoshone Tribe of Nevada

Nidiffer-Shelor, Amber Lynn, University of Oklahoma, Cherokee Nation, Oklahoma

Nilchee, Gregory Hashke Yitahoogal, University of New Mexico, Navajo Nation, Arizona, New Mexico & Utah

Nimsey, Dallas Micah, Southwestern Oklahoma State University, Kiowa Indian Tribe of Oklahoma

Nix, Micah Douglass, Oklahoma State University, Cherokee Nation, Oklahoma

O'Neal, Jaime Diane, Northern State University, Cheyenne River Sioux Tribe of the Cheyenne River Reservation, South Dakota

Odaye, Deena May, Grand Canyon College, Reno-Sparks Indian Colony, Nevada

Old Elk, Georgianna W., Columbia Union College, Assiniboine & Sioux Tribes of the Fort Peck Indian Reservation, Montana

Oldacre, Angela Marie, University of Oklahoma, Cherokee Nation, Oklahoma

Oosahwe, Christen Brook, Bacone College, Cherokee Nation, Oklahoma

Osborn, Kasie D., Southeastern Oklahoma State University, Cherokee Nation, Oklahoma

Owens, Johnie Louis, Kirksville College, Choctaw Nation of Oklahoma

Oxford, Dustin Joseph, Northeastern State University, Cherokee Nation, Oklahoma

Palacol, Christie Kahikuonalani, Touro University, Comanche Nation, Oklahoma

Parker, Mahate Ann, East Central University, Comanche Nation, Oklahoma

Peone-Haynes, Amanda Lee, American Health Information Management Association, Confederated Salish & Kootenai Tribes of the Flathead Reservation, Montana

Peratrovich, Valene Maria, Oregon State University, Alaska Native, Alaska

Peterman, Sawyer, Dine College, Navajo Nation, Arizona, New Mexico & Utah

Peters, Aaron Lee, University of Alaska-Anchorage, Native Village of Ruby

Phillips, Crystal Lea, University of Oklahoma, Cherokee Nation, Oklahoma

Pletnikoff, Elise Marie, Carroll College, Alaska Native

Poitra, Shonda Lee, University of North Dakota, Turtle Mountain Band of Chippewa Indians of North Dakota

Pond, Leland James, Arizona School of Dentistry, Assiniboine and Sioux Tribes of the Fort Peck Indian Reservation, Montana

Power, Jacob Alan, Midwestern University, Cherokee Nation, Oklahoma

Preston, Drew Alan, University of California, Navajo Nation, Arizona, New Mexico & Utah

Proctor, Andrea Nicole, East Central University, Muscogee (Creek) Nation, Oklahoma

Ratzlaff, Loyd Allen, Newman University, Kaw Nation, Oklahoma

Razote, Antoinette Jo, Eastern Washington University, Sisseton-Wahpeton Oyate of the Lake Traverse Reservation, South Dakota

Redcorn, Moira Ambrose, University of Oklahoma, Osage Tribe, Oklahoma

Reising, Kotanee Tenas, Medical College of Wisconsin, Menominee Indian Tribe of Wisconsin

Renfrow, Miranda Kirstin, Oklahoma State University, Choctaw Nation of Oklahoma

Rice, Jennifer Clarice, Northeastern State University, Otoe-Missouria Tribe of Indians, Oklahoma

Rice, Lily A., University of North Dakota, Prairie Band of Potawatomi Nation, Kansas

Richan, Eilene Faye, University of North Dakota, Turtle Mountain Band of Chippewa Indians of North Dakota

Richards, Spencer L., University of North Dakota, Oglala Sioux Tribe of the Pine Ridge Reservation, South Dakota

Richardson, Charlene Martha, South Dakota State University, Oglala Sioux Tribe of the Pine Ridge Reservation, South Dakota

Riffe, Evelyn Laura, Oregon State University, Native Village of Hooper Bay

Riggs, Jaclyn Nichole, Southern Illinois University, Cheyenne-Arapaho Tribes of Oklahoma

Ringer Knudson, Nicolette Jean, University of Minnesota, Sisseton-Wahpeton Oyate of the Lake Traverse Reservation, South Dakota

Ritter, Tara Jean, Oklahoma Wesleyan University, Cherokee Nation, Oklahoma

Robinson, Charlene, University of Arizona, Navajo Nation, Arizona, New Mexico & Utah

Robison-Rivera, Kristie Marie, Southwestern Oklahoma State University, Apache Tribe of Oklahoma

Rodriguez, Suzanne-Linette, Heritage College, Pueblo of Isleta, New Mexico

Rogers, Brandon Scott, University of Oklahoma, Cherokee Nation, Oklahoma

Romero, Tanya Sanky, Paradise Valley Community College, Tohono O'odham Nation of Arizona

Romero, Teresa Beth, University of North Dakota, Turtle Mountain Band of Chippewa Indians of North Dakota

Roselius, Kassi, Southern Nazarene University, Citizen Potawatomi Nation, Oklahoma

Rucker, Amanda Anne, University of the Health Sciences, Osage Tribe, Oklahoma

Ruleford, Miranda Louisa, University of Tulsa, Cherokee Nation, Oklahoma

Sanders, Michael Shawn, University of Oklahoma, Cherokee Nation, Oklahoma

Sanderson, Kendra Marie, University of Arizona, Navajo Nation, Arizona, New Mexico & Utah

Schmidt, Erin Michelle, University of Oklahoma, Muscogee (Creek) Nation, Oklahoma

Scott, Jessica Robin, University of Washington, Central Council of the Tlingit & Haida Indian Tribes

Scott, Steven Ray, Southwestern Oklahoma State University, Cherokee Nation, Oklahoma

Shangin, Nicole Danielle, Seattle Pacific University, Ivanoff Bay Village

Shea-Walters, Tamara Renee, University of Alaska, Alaska Native

Shepard, Cristopher Allan Joseph, University of Nevada, Las Vegas School of Dentistry, Santee Sioux Nation, Nebraska

Shinn-Jones, Darcy Marie, Northeastern State University, Cherokee Nation, Oklahoma

Shipley, Amanda Marie, Southwestern Oklahoma State University, Cherokee Nation, Oklahoma

Show, Jennifer Aurice, Montana State University, Fort Belknap Indian Community of the Fort Belknap Reservation of Montana

Show, Michelle, University of Washington, Fort Belknap Indian Community of the Fort Belknap Reservation of Montana

Sieler, Sean Richard, South Dakota State University, Cheyenne River Sioux Tribe of the Cheyenne River Reservation, South Dakota

Silvers, Kristin Gail, University of New Mexico, Navajo Nation, Arizona, New Mexico & Utah

Simmons, Jeremiah David, Stanford University, Yankton Sioux Tribe of South Dakota

Singer, Cheryle A., Northern Arizona University, Navajo Nation, Arizona, New Mexico & Utah

Sixkiller, Cheryl Lynn, University of Oklahoma, Cherokee Nation, Oklahoma

Small, Shiloh Nicole, University of North Dakota, Northern Cheyenne Tribe of the Northern Cheyenne Indian Reservation, Montana

Smith, Connie Jean, Connors State College, Chickasaw Nation, Oklahoma

Smith, Jana Renee, University of Oklahoma, Cherokee Nation, Oklahoma

Smith, Phyllis Marie, Montana State University, Fort Belknap Indian Community of the Fort Belknap Reservation of Montana

Smoke, Leah Ruth, Northern Arizona University, St. Regis Band of Mohawk Indians of New York

Soliz, Narcisso, Southwestern Oklahoma State University, Rosebud Sioux Tribe of the Rosebud Indian Reservation, South Dakota

Southerland, Aaron Chase, University of Oklahoma, Choctaw Nation of Oklahoma

Spencer, Amanda Stephanie, Bacone College, Cherokee Nation, Oklahoma

Spencer, Anne P., San Juan College, Navajo Nation, Arizona, New Mexico & Utah

Spoon, Shawna Francene, University of Oklahoma, Sac & Fox Nation, Oklahoma

Stevens, Erika S., Central Washington University, Native Village of Eagle

Still, Melissa Brook, University of Central Arkansas, Cherokee Nation, Oklahoma

Stimson, Danielle Rain, Eastern Washington University, Blackfeet Tribe of the Blackfeet Indian Reservation of Montana

Stone, Jennifer June, Northeastern State University, Choctaw Nation of Oklahoma

Stone, Meghan Brooke, Southwestern Oklahoma State University, Cherokee Nation, Oklahoma

Strong, Charles Joseph, University of Texas, Chickasaw Nation, Oklahoma

Sweeney, Michael Aaron, Case Western Reserve Dental School, Choctaw Nation of Oklahoma

Tabaha, Lashona Ann, Northern Arizona University, Navajo Nation, Arizona, New Mexico & Utah

Tapahe, Sharon Jean, Brigham Young University, Navajo Nation, Arizona, New Mexico & Utah

Tapp, Jamie Lynn, Southwestern Oklahoma State University, Chickasaw Nation, Oklahoma

Taylor, Jennifer Elise, Portland State University, Pit River Tribe, California

Taylor, Timothy Michael, Missouri Southern State College, Citizen Potawatomi Nation, Oklahoma

Teller, Terry Lee, University of New Mexico, Navajo Nation, Arizona, New Mexico & Utah

Thomas, Jacob Frederick, Concordia College, Turtle Mountain Band of Chippewa Indians of North Dakota

Thompson, Lorinda, Northern Arizona University, White Mountain Apache Tribe of the Fort Apache Reservation, Arizona

Thompson, Stacey Marie, University of New Mexico, Navajo Nation, Arizona, New Mexico & Utah

Thompson, Weston Dewey, Southwestern Oklahoma State University, Cherokee Nation, Oklahoma

Toadlena, Evelyn, Western New Mexico University, Navajo Nation, Arizona, New Mexico & Utah

Tom, Ardith Renee, New Mexico State University, Navajo Nation, Arizona, New Mexico & Utah

Tom, Jennifer Michelle, Hunter College, Choctaw Nation of Oklahoma

Tonasket, Joleen Michele, Eastern Washington University, Spokane Tribe of the Spokane Reservation, Washington

Toppah, Teresa Ann, Texas Wesleyan University, Kiowa Indian Tribe of Oklahoma

Tsethlikai, Tami-Denice, University of New Mexico, Zuni Tribe of the Zuni Reservation, New Mexico

Tsosie, Carol Renee, Phoenix College, Navajo Nation, Arizona, New Mexico & Utah

Tuley, Ryan Parker, Colorado State University, Muscogee (Creek) Nation, Oklahoma

Turney, Jarett Brandon, Marquette University Dental School, Cherokee Nation, Oklahoma

Tutt, Jaclyn Cindy, Phoenix College, Navajo Nation, Arizona, New Mexico & Utah

Tveit, Adrienne Hilda, Washington State University, Central Council of the Tlingit & Haida Indian Tribes

Two Bulls, Tanya Jolette, Ogalala Lakota College, Standing Rock Sioux Tribe of North & South Dakota

Uhl, Sarah Elizabeth, Baylor University, Cherokee Nation, Oklahoma

Ulmer, Chanda Gail, Humboldt State University, Yurok Tribe of the Yurok Reservation, California

Uttchin, Venus, University of Oklahoma, Muscogee (Creek) Nation, Oklahoma

Vallie-Merriefield, Pamela Lynn, University of North Dakota, Turtle Mountain Band of Chippewa Indians of North Dakota

Vassau, Charlotte Rebecca, Medcenter One College of Nursing, Comanche Nation, Oklahoma

Vaughn, Ashley Elizabeth, University of Oklahoma, Cherokee Nation, Oklahoma

Velasquez, Mary Christina, Arizona School of Health Sciences, Southern Ute Indian Tribe of the Southern Ute Reservation, Colorado

Vincent, Terence Justin, Dr. William M. Scholl College of Podiatric Medicine, Kiowa Indian Tribe of Oklahoma

Vitz, Kelly Anne, George Washington University, Hopi Tribe of Arizona

Wade, Lisa Jilene, Oklahoma Baptist University, Choctaw Nation of Oklahoma

Wagner, John William, Montana State University, Blackfeet Tribe of the Blackfeet Indian Reservation of Montana

Walker, Jonathan Bayless, Oklahoma State University College of Osteopathic Medicine, Choctaw Nation of Oklahoma

Walker, Lindsay Allison, University of North Carolina, Eastern Band of Cherokee Indians of North Carolina

Walker, Marshall Austin, University of Oklahoma, Cherokee Nation, Oklahoma

Walker, Patrick Robert, Southwestern Oklahoma State University, Cherokee Nation, Oklahoma

Wallace, Becky Lee, College of St. Catherine, Winnebago Tribe of Nebraska

Ward, Jennifer Elaine, Kirksville College of Osteopathic Medicine, Cherokee Nation, Oklahoma

Ward, Micah N., Oklahoma City Community College, Citizen Potawatomi Nation, Oklahoma

Ward, Rolanda Reason, University of Alaska, Egegik Village

Washburn, Kendall Derek, University of Oklahoma, Kiowa Indian Tribe of Oklahoma

Watson, Matthew Mendioro, Columbia University, Ottawa Tribe of Oklahoma

Werner, Gwenlynn Laine, Arizona School of Dentistry, Navajo Nation, Arizona, New Mexico & Utah

White, Karen Ann, Apollo College, Navajo Nation, Arizona, New Mexico & Utah

Whitehair, Orlantha, University of Arizona, Navajo Nation, Arizona, New Mexico & Utah

Whitehair, Robbie Gayle, University of New Mexico, Navajo Nation, Arizona, New Mexico & Utah

Whitehair, Rosalita Marie, University of Arizona, Navajo Nation, Arizona, New Mexico & Utah

Whitehorse, Veronica Ann, San Diego State University, Navajo Nation, Arizona, New Mexico & Utah

Whitsitt, Adam Douglas, Loyola University, Choctaw Nation of Oklahoma

Wilbourn, Crystal Lea, Belmont University, Cherokee Nation, Oklahoma

Wiley, Matthew Hallett, East Central University, Muscogee (Creek) Nation, Oklahoma

Wilkerson, Thaddus Donavan, University of New Mexico, Navajo Nation, Arizona, New Mexico & Utah

Williams Burns, Amanda Kate, Southwestern Oklahoma State University, Muscogee (Creek) Nation, Oklahoma

Williams, Clarrisa, University of Arizona, Navajo Nation, Arizona, New Mexico & Utah

Williams, Scott Bradley, University of Iowa Dental School, Cherokee Nation, Oklahoma

Willis, Wade Kennedy, University of Oklahoma, Cherokee Nation, Oklahoma

Wilson, Ellen Lucille, University of North Dakota, Three Affiliated Tribes of the Fort Berthold Reservation, North Dakota

Wilson, Kelli Rae Lee, University of New Mexico, Seminole Nation of Oklahoma

Wilson, Sharon Jean, Northern Arizona University, Navajo Nation, Arizona, New Mexico & Utah

Wilson, Winter Marie, University of North Dakota, Death Valley Timbi-Sha Shoshone Band of California

Windham, Tera Beth, Central State University, Cherokee Nation, Oklahoma

Winship, Venita Lynn, Eastern Oklahoma State College, Choctaw Nation of Oklahoma

Winton, Lindsay Dallas, University of Oklahoma, Cherokee Nation, Oklahoma

Woodard, David Rush, University of Missouri, Osage Tribe, Oklahoma

Woods, Lacy Ann, University of Oklahoma, Chickasaw Nation, Oklahoma

Wyczynski, Cheryl Leann, Labette Community College, Quapaw Tribe of Indians, Oklahoma

Yazzie, Delvin, University of Arizona, Navajo Nation, Arizona, New Mexico & Utah

Yazzie, Maria, University of New Mexico, Navajo Nation, Arizona, New Mexico & Utah

Yazzie, Nazhone Paul, University of Arizona, Navajo Nation, Arizona, New Mexico & Utah

Yazzie, Olivia, University of Oklahoma, Navajo Nation, Arizona, New Mexico & Utah

Yazzie, Shelia Rae, University of Utah, College of Social Work, Navajo Nation, Arizona, New Mexico & Utah

Yellowhair, Ophelia Ann, University of New Mexico, Navajo Nation, Arizona, New Mexico & Utah

Yepa, Jason Charles, University of New Mexico, Navajo Nation, Arizona, New Mexico & Utah

Young, Sawar Chalutch, University of Washington, Yurok Tribe of the Yurok Reservation, California

Youngblood, Chase Culver, University of Oklahoma, Cherokee Nation, Oklahoma

Zackery, Kathryn Sue, Oklahoma State University, Muscogee (Creek) Nation, Oklahoma

Zah, Angela Marie, University of Colorado, Oglala Sioux Tribe of the Pine Ridge Reservation, South Dakota

FOR FURTHER INFORMATION CONTACT: The Indian Health Service Scholarship Branch, 801 Thompson Avenue, Suite 120, Rockville, Maryland, 20852, Telephone: (301) 443-6197, Fax: (301) 443-6048.

Dated: October 8, 2004.
Charles W. Grim,
Assistant Surgeon General, Director, Indian Health Service.

[FR Doc. 04-23296 Filed 10-15-04; 8:45 am]

BILLING CODE 4160-16-U